DEPARTMENT OF THE INTERIOR

Central Utah Project Completion Act

AGENCY: Department of the Interior, Office of the Assistant Secretary—Water and Science (Interior).

ACTION: Notice of intent to negotiate contracts and agreements among Interior, Central Utah Water Conservancy District (CUWCD), and other parties required to implement the Utah Lake Drainage Basin Water Delivery System as authorized in section 202(a)(1) of the Central Utah Project Completion Act (CUPCA), which is part of the Bonneville Unit of the Central Utah Project.

SUMMARY: On March 25, 2004, Interior, CUWCD, and the Utah Reclamation Mitigation and Conservation Commission filed a Draft Environmental Impact Statement (DEIS) for the Utah Lake Drainage Basin Water Delivery System (Utah Lake System), Bonneville Unit, Central Utah Project with the Environmental Protection Agency and made the draft EIS available for public review and comment. The draft EIS identified several contracts and agreements among the involved parties required to implement the Utah Lake System.

DATES: Dates and locations for public negotiation sessions on the contracts and agreements will be announced in local newspapers.

SUPPLEMENTARY INFORMATION: The Utah Lake System is one of the systems of the Bonneville Unit of the Central Utah Project that would develop central Utah's water resources for municipal and industrial supply, fish and wildlife, and recreation. The Utah Lake System Preferred Alternative would provide an average transbasin diversion of 101,900 acre-feet which consists of 30,000 acre-feet of Municipal and Industrial (M&I) secondary water to southern Utah County and 30,000 acre-feet of M&I water to Salt Lake County water treatment plants; 1,590 acre-feet of M&I water already contracted to southern Utah County cities, and 40,310 acre-feet of M&I water to Utah Lake for exchange to Jordanelle Reservoir. The Preferred Alternative is analyzed in the March 2004, Utah Lake System Draft Environmental Impact Statement and in the March 2004, Draft Supplement to the Bonneville Unit Definite Plan Report. Implementation of the Utah Lake System requires the execution of contracts and agreements among the parties involved with the project. The contracts and agreements to be publicly negotiated will include repayment, construction, funding, water petitions, Warren Act conveyance, water conservation, and other related documents.

Information, Comments, and Inquiries: Pursuant to the Reclamation Project Act of 1939, section 9(f), 43 U.S.C. 485h(f), interested parties may submit written data, views and arguments concerning the contracts and agreements to the address below. Additional information on matters related to this notice can also be obtained from: Mr. Reed Murray, 302 East 1860 South, Provo Utah, 84606, (801) 379-1237, rmurray@uc.usbr.gov.

Dated: May 18, 2004.
Ronald Johnston,
Program Director, Department of the Interior.

[FR Doc. 04-11641 Filed 5-21-04; 8:45 am]

BILLING CODE 4310-RK-P